DEPARTMENT OF ENERGY

Federal Energy Regulatory Commission

Combined Notice of Filings #1

Take notice that the Commission received the following electric corporate filings:

Docket Numbers: EC22-74-000.

Applicants: Wisconsin Power and Light Company, Wisconsin Public Service Corporation, Madison Gas and Electric Company.

Description: Joint Application for Authorization Under Section 203 of the Federal Power Act of Wisconsin Power and Light Company, et al.

Filed Date: 6/13/22.

Accession Number: 20220613-5175.

Comment Date: 5 p.m. ET 7/5/22.

Take notice that the Commission received the following exempt wholesale generator filings:

Docket Numbers: EG22-144-000.

Applicants: Timber Road Solar Park LLC.

Description: Timber Road Solar Park LLC submits Notice of Self-Certification of Exempt Wholesale Generator Status.

Filed Date: 6/13/22.

Accession Number: 20220613-5161.

Comment Date: 5 p.m. ET 7/5/22.

Take notice that the Commission received the following electric rate filings:

Docket Numbers: ER10-3079-019.

Applicants: Tyr Energy LLC.

Description: Supplement to December 22, 2021 Updated Market Power Analysis for Southwest Power Pool Inc. Region of Tyr Energy LLC.

Filed Date: 6/13/22.

Accession Number: 20220613-5158.

Comment Date: 5 p.m. ET 6/23/22.

Docket Numbers: ER20-1068-005; ER20-2100-004.

Applicants: The Dayton Power and Light Company, PJM Interconnection, L.L.C., The Dayton Power and Light Company.

Description: Compliance Filing of The Dayton Power & Light Company respect to the South Charleston (Madison) Substation 345 kV planned transmission project.

Filed Date: 6/10/22.

Accession Number: 20220610-5253.

Comment Date: 5 p.m. ET 7/1/22.

Docket Numbers: ER22-1200-001.

Applicants: PJM Interconnection, L.L.C.

Description: Compliance filing: Response to 5/13/2022 Deficiency Notice in Docket No. ER22-1200 to be effective 9/1/2022.

Filed Date: 6/13/22.

Accession Number: 20220613-5131.

Comment Date: 5 p.m. ET 7/5/22.

Docket Numbers: ER22-1882-001.

Applicants: VESI 10 LLC.

Description: Tariff Amendment: Amendment to be effective 5/17/2022.

Filed Date: 6/14/22.

Accession Number: 20220614-5095.

Comment Date: 5 p.m. ET 7/5/22.

Docket Numbers: ER22-2102-000.

Applicants: Deerfield Wind Energy 2, LLC.

Description: Baseline eTariff Filing: Shared Facilities Agreement and Request for Waivers to be effective6/14/2022.

Filed Date: 6/13/22.

Accession Number: 20220613-5136.

Comment Date: 5 p.m. ET 7/5/22.

Docket Numbers: ER22-2103-000.

Applicants: Deerfield Wind Energy 2, LLC.

Description: § 205(d) Rate Filing: Certificate of Concurrence and Request for Waiver and Blanket Approval to be effective 6/14/2022.

Filed Date: 6/13/22.

Accession Number: 20220613-5139.

Comment Date: 5 p.m. ET 7/5/22.

Docket Numbers: ER22-2104-000.

Applicants: Logan Generating Company, L.P.

Description: Tariff Amendment: MBR Cancellation to be effective 6/14/2022.

Filed Date: 6/13/22.

Accession Number: 20220613-5147.

Comment Date: 5 p.m. ET 7/5/22.

Docket Numbers: ER22-2105-000.

Applicants: Logan Generating Company, L.P.

Description: Tariff Amendment: Tariff Cancellation to be effective 12/31/9998.

Filed Date: 6/14/22.

Accession Number: 20220614-5000.

Comment Date: 5 p.m. ET 7/5/22.

Docket Numbers: ER22-2106-000.

Applicants: Chambers Cogeneration, Limited Partnership

Description: Tariff Amendment: Reactive Power Tariff Cancellation to be effective 12/31/9998.

Filed Date: 6/14/22.

Accession Number: 20220614-5001.

Comment Date: 5 p.m. ET 7/5/22.

Docket Numbers: ER22-2108-000.

Applicants: Cheyenne Light, Fuel and Power Company.

Description: § 205(d) Rate Filing: Amended Engineering and Procurement Agreement to be effective 6/15/2022.

Filed Date: 6/14/22.

Accession Number: 20220614-5048.

Comment Date: 5 p.m. ET 7/5/22.

Docket Numbers: ER22-2109-000.

Applicants: Ohio Power Company, PJM Interconnection, L.L.C.

Description: § 205(d) Rate Filing: Ohio Power Company submits tariff filing per 35.13(a)(2)(iii: AEP submits OPCo and AMP Transmission IA SA No. 6451 to be effective 5/1/2022.

Filed Date: 6/14/22.

Accession Number: 20220614-5076.

Comment Date: 5 p.m. ET 7/5/22.

Docket Numbers: ER22-2110-000.

Applicants: PJM Interconnection, L.L.C.

Description: § 205(d) Rate Filing: Interconnection Reform, Request Action by October 3, 2022 and 30-day Comments to be effective 10/3/2022.

Filed Date: 6/14/22.

Accession Number: 20220614-5081.

Comment Date: 5 p.m. ET 7/5/22.

Docket Numbers: ER22-2111-000.

Applicants: Chambers Cogeneration, Limited Partnership.

Description: Tariff Amendment: MBR Cancellation to be effective 6/15/2022.

Filed Date: 6/14/22.

Accession Number: 20220614-5088.

Comment Date: 5 p.m. ET 7/5/22.

Docket Numbers: ER22-2112-000.

Applicants: PJM Interconnection, L.L.C.

Description: § 205(d) Rate Filing: Original ISA, Service Agreement No. 6475; Queue No. AE1-079 to be effective 5/13/2022.

Filed Date: 6/14/22.

Accession Number: 20220614-5090.

Comment Date: 5 p.m. ET 7/5/22.

Docket Numbers: ER22-2114-000.

Applicants: PPL Electric Utilities Corporation, PJM Interconnection, L.L.C.

Description: § 205(d) Rate Filing: PPL Electric Utilities Corporation submits tariff filing per 35.13(a)(2)(iii: Revision to OATT re: Fund Network Upgrades and pro forma NUFA to be effective 1/3/2023.

Filed Date: 6/14/22.

Accession Number:20220614-5111.

Comment Date: 5 p.m. ET 7/5/22.

Docket Numbers: ER22-2115-000.

Applicants: Timber Road Solar Park LLC.

Description: Baseline eTariff Filing: Market-Based Rate Application to be effective 8/14/2022.

Filed Date: 6/14/22.

Accession Number: 20220614-5156.

Comment Date: 5 p.m. ET 7/5/22.

Docket Numbers: ER22-2116-000.

Applicants: Blue Harvest Solar Park LLC.

Description: Baseline eTariff Filing: Market-Based Rate Application to be effective 8/14/2022.

Filed Date: 6/14/22.

Accession Number: 20220614-5157.

Comment Date: 5 p.m. ET 7/5/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 14, 2022.
Debbie-Anne A. Reese,
Deputy Secretary.

[FR Doc. 2022-13222 Filed 6-17-22; 8:45 am]

BILLING CODE 6717-01-P